DEPARTMENT OF HEALTH AND HUMAN SERVICES

National Institutes of Health

Center for Scientific Review; Amended Notice of Meeting

Notice is hereby given of a change in the meeting of the Tumor Microenvironment Study Section, June 12, 2006, 8 a.m. to June 13, 2006 4 p.m., Bethesda Marriott Suites, 6711 Democracy Boulevard, Bethesda, MD, 20817 which was published in the Federal Register on May 5, 2006, 71 FR 26550-26552.

The meeting will be held at the Bethesda Marriott, 5151 Pooks Hill Road, Bethesda, MD 20814. The meeting dates and time remain the same. The meeting is closed to the public.

Dated: June 6, 2006.
Anna Snouffer,
Acting Director, Office of Federal Advisory Committee Policy.

[FR Doc. 06-5311 Filed 6-12-06; 8:45 am]

BILLING CODE 4140-01-M